DEPARTMENT OF HOMELAND SECURITY

Transportation Security Administration

Intent To Request Approval From OMB of One New Public Collection of Information: Application To Participate in the Screening Partnership Program (SPP)

AGENCY: Transportation Security Administration, DHS.

ACTION: Notice.

SUMMARY: The Transportation Security Administration (TSA) invites public comment on a new Information Collection Request (ICR) abstracted below that we will submit to the Office of Management and Budget (OMB) for approval in compliance with the Paperwork Reduction Act (PRA). The ICR describes the nature of the information collection and its expected burden. The collection involves an application completed by airports desiring to opt-out of federal passenger and baggage screening, and preferring that a qualified private screening company perform screening functions.

DATES: Send your comments by September 2, 2014.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

TSA's Screening Partnership Program (SPP) (implementing 49 U.S.C. 44920) enables commercial airports to apply for a private screening company to provide passenger and baggage security screening services. An airport submits the SPP application to have employees of a qualified private company carry out the screening of passengers and property at the airport. The SPP application will collect the following from each airport seeking to participate in SPP:

• Basic airport information: airport name, FAA identifier, and airport operating authority;

• Primary airport operator contact: name, position, phone, mailing address and email address;

• Indication of whether or not the airport desires to provide its own screening services;

• Recommendation on which private screening company should perform the screening function, and why, and whether or not the airport intends to enter into a business relationship with the recommended company;

• Information on any major activities scheduled to occur at the airport within the next five years that could impact the transition from federal screening to private screening (for example, major construction); and

• Optional information may be provided to support the consideration of their application.

Purpose and Description of Data Collection

The submission of the SPP application represents the initial notification to TSA of an airport's desire to opt-out of the federal screening provided by TSA employees. TSA currently has a screening presence at approximately 450 airports, of which 18 airports are actively participating in SPP.

The annual burden for the information collection related to SPP is estimated to be two-hours thirty minutes (2.5 hours). TSA estimates that 10 airports will respond annually. The agency estimates that each respondent airport will spend approximately one quarter (.25) hour to complete the application for a total burden of two-hours thirty minutes (2.50 hours). TSA does not require the airports to maintain records of the application submission. However, if the airport choses to do so, the burden associated with this action is anticipated to be minimal.

Use of Information

TSA will acknowledge receipt of the application, review for completeness, and provide an official response within 120 days from the date of acknowledgement. If the application submission is complete, TSA will provide the applicant with an appropriate approval response and include a status update. If the application is incomplete, TSA will provide a detailed response identifying the actions required for a successful application submission.

The application contains no personally identifiable information, sensitive security information, or classified information, so no special handling or protection is required.

Dated: June 26, 2014.
Christina A. Walsh,
TSA Paperwork Reduction Act Officer, Office of Information Technology.

[FR Doc. 2014-15541 Filed 7-1-14; 8:45 am]

BILLING CODE 9110-05-P